ENVIRONMENTAL PROTECTION AGENCY

[FRL-9826-7; CERCLA-04-2013-3761]

Columbia Organic Chemical Company Site, Columbia, Richland County, South Carolina; Notice of Settlement

AGENCY: Environmental Protection Agency (EPA).

ACTION: Notice of Settlement.

SUMMARY: Under 122(h) of the Comprehensive Environmental Response, Compensation and Liability Act (CERCLA), the United States Environmental Protection Agency has entered into a settlement with Stephen Reichlyn concerning the Columbia Organic Chemical Company Superfund Site located in Columbia, Richland County, South Carolina. The settlement addresses cost incurred by the agency in conducting a fund lead Removal.

DATES: The Agency will consider public comments on the settlement until July 22, 2013. The Agency will consider all comments received and may modify or withdraw its consent to the settlement if comments received disclose facts or considerations which indicate that the settlement is inappropriate, improper, or inadequate.

ADDRESSES: Copies of the settlement are available from EPA's Environmental Protection Specialist, Ms. Paula V. Painter. Submit your comments by site name Columbia Organic Chemical Company by one of the following methods:

• www.epa.gov/region4/superfund/programs/enforcement/enforcement.html.

• Email. Painter.Paula@epa.gov.

• U.S. Environmental Protection Agency, Attn: Paula V. Painter, Superfund Division, 61 Forsyth Street SW., Atlanta, Georgia 30303.

FOR FURTHER INFORMATION CONTACT: Paula V. Painter at 404/562-8887.

Dated: May 6, 2013.
Anita L. Davis,
Chief, Superfund Enforcement & Information Management Branch, Superfund Division.

[FR Doc. 2013-14751 Filed 6-19-13; 8:45 am]

BILLING CODE 6560-50-P